DEPARTMENT OF HOMELAND SECURITY

[Docket No. DHS-2011-0036]

Homeland Security Science and Technology Advisory Committee (HSSTAC)

AGENCY: Department of Homeland Security Science and Technology Directorate (DHS S&T), Department of Homeland Security.

ACTION: Committee management; request for applicants for appointment to Homeland Security Science and Technology Advisory Committee (HSSTAC).

SUMMARY: The DHS Science and Technology Directorate is inviting applications from individuals who are interested in serving on the Homeland Security Science and Technology Advisory Committee (HSSTAC). The HSSTAC gives advice and recommendations to the Under Secretary of DHS S&T.

DATES: Applications for membership should reach DHS S&T as described below on or before January 30, 2012.

ADDRESSES: Applicants should send a biography or resume and CV (if available) in one of three ways:

• Email: Mary.Hanson@dhs.gov.

• Fax: (202) 254-5823.

• Mail: Mary Hanson, HSSTAC Executive Director, Science and Technology Directorate, Department of Homeland Security, 245 Murray Lane, Bldg. 410, Washington, DC 20528.

FOR FURTHER INFORMATION CONTACT: Mary Hanson, HSSTAC Executive Director, Science and Technology Directorate, Department of Homeland Security, 245 Murray Lane, Bldg. 410, Washington, DC 20528, (202) 254-5866(O), (202) 254-5823 (F), mary.hanson@dhs.gov.

SUPPLEMENTARY INFORMATION: The HSSTAC is an advisory committee established in accordance with the provisions of the Federal Advisory Committee Act (FACA) 5 U.S.C. (Pub. L. 92-463). The committee addresses areas of interest and importance to the Under Secretary for Science and Technology, such as new developments in systems engineering, cyber-security, knowledge management and how best to leverage related technologies funded by other federal agencies and by the private sector. The committee also advises the Under Secretary on policies, management processes, and organizational constructs as needed. Upon request, the committee provides scientifically and technically based advice to the Homeland Security Advisory Council. A limited number of positions is currently available. The strongest need is in the areas of explosives detection and biological defense research and development.

Committee members serve at the pleasure of the Secretary of Homeland Security. Members will be selected based on their expertise, knowledge, and contribution to a diverse range of science and technology topic areas (including chemical, biological, and cybersecurity threats, the human factors embedded in those threats and response to them, first responder technology capabilities and needs, and the latest thinking in systems engineering), and their depth of experience in applying these areas of science and technology to real-world problems and transitioning innovative products into use. Members shall serve terms of office of two years. Meetings will be held approximately quarterly. Travel expenses may be reimbursed.

Members of HSSTAC will be appointed and serve as Special Government Employees (SGE) as defined in section 202(a) of title 18 United States Code. As candidates for appointment as SGEs, applicants are required to complete Confidential Financial Disclosure Reports (OGE Form 450). DHS may not release the reports or the information in them to the public except under an order issued by a Federal court or as otherwise provided under the Privacy Act (5 U.S.C. 552a). Applicants can obtain the OGE Form 450 at the Web site of the Office of Government Ethics (www.oge.gov), or by contacting the individual listed above. Applications which are not accompanied by a completed OGE Form 450 will not be considered. Federally registered lobbyists may not serve on federal advisory committees.

In support of the policy of the Department of Homeland Security on gender and ethnic diversity, qualified women and minorities are encouraged to apply for membership.

Dated: December 21, 2011.
Tara O'Toole,
Under Secretary for Science and Technology.

[FR Doc. 2012-413 Filed 1-11-12; 8:45 am]

BILLING CODE 9110-9f-P